ENVIRONMENTAL PROTECTION AGENCY

[FRL OP-OFA-145]

Environmental Impact Statements; Notice of Availability

Responsible Agency: Office of Federal Activities, General Information 202-564-5632 or https://www.epa.gov/nepa.

Weekly receipt of Environmental Impact Statements (EIS)

Filed September 16, 2024 10 a.m. EST Through September 23, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240170, Final Supplement, FHWA, IL, U.S. Route 34 West of Carmen Road to East of TR 111, Combined SFEIS/ROD—Henderson County, Illinois, Contact: Darien Siddall 217-492-2615.

Under 23 U.S.C. 139(n)(2), FHWA has issued a single document that consists of a final environmental impact statement and record of decision. Therefore, the 30-day wait/review period under NEPA does not apply to this action.

EIS No. 20240171, Final, DOE, NY, Adoption—Sunrise Wind Project, Review Period Ends: 10/28/2024, Contact: Molly Cobbs 240-687-7266.

The Department of Energy (DOE) has adopted the Bureau of Ocean Energy Management's Final EIS No. 20230178 filed 12/11/2023 with the Environmental Protection Agency. The DOE was not a cooperating agency on this project. Therefore, republication of the document is necessary under Section 1506.3(b)(1) of the CEQ regulations.

EIS No. 20240172, Final, USACE, FL, Final Integrated Project Implementation Report and Environmental Impact Statement Western Everglades Restoration Project, Review Period Ends: 10/28/2024, Contact: Melissa Nasuti 904-232-1368.

EIS No. 20240173, Draft, TVA, TN, Integrated Resource Plan 2025, Comment Period Ends: 11/26/2024, Contact: Kelly Baxter 865-632-2444.

EIS No. 20240174, Draft, APHIS, ID, Predator Damage Management in Idaho, Comment Period Ends: 11/12/2024, Contact: Jared Hedelius 208-373-1630.

Dated: September 23, 2024.
Timothy Witman,
Acting Director, NEPA Compliance Division, Office of Federal Activities.

[FR Doc. 2024-22167 Filed 9-26-24; 8:45 am]

BILLING CODE 6560-50-P